DEPARTMENT OF TRANSPORTATION

Federal Aviation Administration

14 CFR Part 39

[Docket No. FAA-2020-0451; Product Identifier 2020-NM-036-AD; Amendment 39-21302; AD 2020-22-06]

RIN 2120-AA64

Airworthiness Directives; Airbus SAS Airplanes

AGENCY: Federal Aviation Administration (FAA), Department of Transportation (DOT).

ACTION: Final rule.

SUMMARY: The FAA is superseding Airworthiness Directive (AD) 99-01-19 and AD 2004-25-02, which applied to certain Airbus SAS Model A320 series airplanes. AD 99-01-19 and AD 2004-25-02 required repetitive inspections to detect fatigue cracking in certain areas of the fuselage, and corrective action if necessary. AD 2004-25-02 also provided an optional terminating action for the repetitive inspections. This AD continues to require, for certain airplanes, repetitive inspections of the fastener holes for any cracking, and repair if necessary, and provides an optional terminating action for the fastener hole inspections. This AD also revises the applicability to include additional airplanes and requires, for all airplanes, inspections of the emergency exit door structure for any cracking and repair if necessary; as specified in a European Union Aviation Safety Agency (EASA) AD, which is incorporated by reference. This AD was prompted by a report that during full scale tests to support the Model A320 structure extended service goal (ESG) exercise, several cracks were found on both sides of the overwing emergency exit door cut-outs at fuselage section 15. The FAA is issuing this AD to address the unsafe condition on these products.

DATES: This AD is effective December 14, 2020.

The Director of the Federal Register approved the incorporation by reference of a certain publication listed in this AD as of December 14, 2020.

The Director of the Federal Register also approved the incorporation by reference of a certain other publication listed in this AD as of February 10, 2005 (70 FR 1184, January 6, 2005).

The Director of the Federal Register approved the incorporation by reference of a certain other publication listed in this AD as of February 12, 1999 (64 FR 1114, January 8, 1999).

ADDRESSES: For EASA AD 2020-0040R1, which is incorporated by reference (IBR), contact the EASA, Konrad-Adenauer-Ufer 3, 50668 Cologne, Germany; telephone +49 221 8999 000; email ADs@easa.europa.eu; internet www.easa.europa.eu. You may find this IBR material on the EASA website at https://ad.easa.europa.eu. For Airbus service information identified in this final rule, contact Airbus SAS, Airworthiness Office—EIAS, Rond-Point Emile Dewoitine No: 2, 31700 Blagnac Cedex, France; telephone +33 5 61 93 36 96; fax +33 5 61 93 44 51; email account.airworth-eas@airbus.com; internet https://www.airbus.com. You may view EASA AD 2020-0040R1 and the Airbus service information identified in this AD at the FAA, Airworthiness Products Section, Operational Safety Branch, 2200 South 216th St., Des Moines, WA. For information on the availability of this material at the FAA, call 206-231-3195. It is also available in the AD docket on the internet at https://www.regulations.gov by searching for and locating Docket No. FAA-2020-0451.

Examining the AD Docket

You may examine the AD docket on the internet at https://www.regulations.gov by searching for and locating Docket No. FAA-2020-0451; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Sanjay Ralhan, Aerospace Engineer, Large Aircraft Section, International Validation Branch, FAA, 2200 South 216th St., Des Moines, WA 98198; telephone and fax 206-231-3223; email Sanjay.Ralhan@faa.gov.

SUPPLEMENTARY INFORMATION:

Discussion

The EASA, which is the Technical Agent for the Member States of the European Union, has issued EASA AD 2020-0040R1, dated June 16, 2020 (“EASA AD 2020-0040R1”) (also referred to as the Mandatory Continuing Airworthiness Information, or “the MCAI”), to correct an unsafe condition for certain Airbus SAS Model A319-111, -112, -113, -114, -115, -131, -132, and -133 airplanes; and Model A320-211, -212, -214, -215, -216, -231, -232, and -233 airplanes. Model A320-215 airplanes are not certified by the FAA and are not included on the U.S. type certificate data sheet; this AD therefore does not include those airplanes in the applicability. EASA AD 2020-0040R1 superseded French AD 2002-259(B), dated May 15, 2002 (which corresponded to FAA AD 2004-25-02, Amendment 39-13889 (70 FR 1184, January 6, 2005) (“AD 2004-25-02”)).

The FAA issued a notice of proposed rulemaking (NPRM) to amend 14 CFR part 39 to supersede AD 99-01-19, Amendment 39-10987 (64 FR 1114, January 8, 1999) (“AD 99-01-19”); and AD 2004-25-02. AD 99-01-19 and AD 2004-25-02 applied to certain Airbus SAS Model A320 series airplanes. The NPRM published in the Federal Register on June 4, 2020 (85 FR 34371). The NPRM was prompted by a report that during full scale tests to support the Model A320 structure ESG exercise, several cracks were found on both sides of the overwing emergency exit door cut-outs at fuselage section 15. The NPRM proposed to continue to require, for certain airplanes, repetitive inspections of the fastener holes for any cracking, and repair if necessary, and would provide an optional terminating action for the fastener hole inspections. The NPRM also proposed to revise the applicability to include additional airplanes and requires, for all airplanes, inspections of the emergency exit door structure for any cracking and repair if necessary, as specified in EASA AD 2020-0040R1.

The FAA is issuing this AD to address fatigue cracking of the fuselage, which could result in reduced structural integrity of the airplane. See the MCAI for additional background information.

Comments

The FAA gave the public the opportunity to participate in developing this final rule. The following presents the comments received on the NPRM and the FAA's response to each comment.

Request To Use the Latest EASA AD

American Airlines (AAL) and United Airlines (UAL) requested that the NPRM specify EASA AD 2020-0040R1, which is the latest EASA AD, and it revises the applicability to exclude airplanes that have embodied certain modifications in production, and that those airplanes are, therefore, not applicable to the NPRM.

AAL stated that FAA AD 2004-25-02 and EASA AD 2020-0040R1 contain a difference in the applicability. AAL stated that FAA AD 2004-25-02 applies to Airbus Model A320 airplanes without modification 21346 embodied in production. AAL also stated that EASA AD 2020-0040R1 applies to all Airbus Model A319 and A320 airplanes, except for those with modification 160001 embodied in production, or Airbus Service Bulletin A320-57-1193 embodied in service, or Model A319 airplanes that have had modification 28238, 28162, and 28342 embodied in production. AAL commented that some of its Model A319 airplanes have had modification 160001 embodied in production, but would still be required to accomplish the actions specified in paragraph (k) of the NPRM.

The FAA agrees with the comment. The FAA has revised all applicable sections in this final rule to specify EASA AD 2020-0040R1, dated June 16, 2020, which clarifies the conditions and applicability for certain airplanes as of the effective date of this final rule. For clarification, airplane models that have embodied certain modifications or service information in production, paragraph (k) of this AD does not apply. The FAA has also determined that no additional work is required for airplanes on which the actions specified in EASA AD 2020-0040, dated February 28, 2020, have already been done.

Changes Since the NPRM Was Issued

The FAA inadvertently omitted paragraph (l)(4) from the proposed AD, and has added it to this AD to clarify that, “The “Remarks” section of EASA AD 2020-0040R1 does not apply to this AD.”

Conclusion

The FAA reviewed the relevant data, considered the comments received, and determined that air safety and the public interest require adopting this final rule with the change described previously and minor editorial changes. The FAA has determined that these minor changes:

• Are consistent with the intent that was proposed in the NPRM for addressing the unsafe condition; and

• Do not add any additional burden upon the public than was already proposed in the NPRM.

The FAA also determined that these changes will not increase the economic burden on any operator or increase the scope of this final rule.

Related IBR Material Under 1 CFR Part 51

EASA AD 2020-0040R1 describes, among other actions, procedures for inspections of the emergency exit door structure for any cracking and repair, if necessary.

Airbus has issued Service Bulletin A320-53-1031, Revision 02, dated December 5, 2001. This service information describes procedures for repetitive rotating probe inspections of the fasteners holes and repair if necessary.

This AD also requires Airbus Service Bulletin A320-53-1032, Revision 02, dated December 5, 2001, which the Director of the Federal Register approved for incorporation by reference as of February 10, 2005 (70 FR 1184, January 6, 2005).

This AD also requires Airbus Service Bulletin A320-53-1032, Revision 01, dated January 15, 1998, which the Director of the Federal Register approved for incorporation by reference as of February 12, 1999 (64 FR 1114, January 8, 1999).

This material is reasonably available because the interested parties have access to it through their normal course of business or by the means identified in the ADDRESSES section.

Costs of Compliance

The FAA estimates that this AD affects 800 airplanes of U.S. registry. The FAA estimates the following costs to comply with this AD:

Estimated Costs for Required Actions
Action | Labor cost | Parts cost | Cost per product | Cost on U.S. operators
Retained actions from AD 2004-25-02 | Up to 19 work-hours × $85 per hour = Up to $1,615 | $0 | Up to $1,615 | Up to $1,292,000.
New actions | Up to 23 work-hours × $85 per hour = Up to $1,955 | 0 | Up to $1,955 | Up to $1,564,000.

The FAA estimates the following costs to do any necessary on-condition actions that would be required based on the results of any required actions. The FAA has no way of determining the number of aircraft that might need these on-condition actions:

Estimated Costs of On-Condition Actions: Modification, Repair of Fastener Holes, and Repair of Cracks in the Emergency Exit Door Structure That are Within Limits
Labor cost | Parts cost | Cost per product
Up to 66 work-hours × $85 per hour = Up to $5,610 | Up to $85,000 | Up to $90,610.

Estimated Costs for Optional Actions
Labor cost | Parts cost | Cost per product
1 work-hour × $85 per hour = $85 | $4,219 | $4,304

The FAA has received no definitive data that would enable the agency to provide cost estimates for certain other repairs specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 99-01-19, Amendment 39-10987 (64 FR 1114, January 8, 1999); and AD 2004-25-02, Amendment 39-13889 (70 FR 1184, January 6, 2005); and

b. Adding the following new AD:

2020-22-06 Airbus SAS: Amendment 39-21302; Docket No. FAA-2020-0451; Product Identifier 2020-NM-036-AD.

(a) Effective Date

This AD is effective December 14, 2020.

(b) Affected ADs

This AD replaces AD 99-01-19, Amendment 39-10987 (64 FR 1114, January 8, 1999) (“AD 99-01-19”); and AD 2004-25-02, Amendment 39-13889 (70 FR 1184, January 6, 2005) (“AD 2004-25-02”).

(c) Applicability

This AD applies to Airbus SAS Model A319-111, -112, -113, -114, -115, -131, -132, and -133 airplanes; and Model A320-211, -212, -214, -216, -231, -232, and -233 airplanes, certificated in any category, as identified in European Union Aviation Safety Agency (EASA) AD 2020-0040R1, dated June 16, 2020 (“EASA AD 2020-0040R1”).

(d) Subject

Air Transport Association (ATA) of America Code 53, Fuselage.

(e) Reason

This AD was prompted by a report that, during full scale tests to support the Model A320 structure extended service goal (ESG) exercise, several cracks were found on both sides of the overwing emergency exit door cut-outs at fuselage section 15. The FAA is issuing this AD to address fatigue cracking of the fuselage, which could result in reduced structural integrity of the airplane.

(f) Compliance

Comply with this AD within the compliance times specified, unless already done.

(g) Retained Initial Inspections, With No Changes

For Airbus SAS Model A320-111, -211, -212, and -231 series airplanes on which Airbus Modification 21346 has not been done: This paragraph restates the requirements of paragraph (f) of AD 2004-25-02, with no changes. At the applicable time specified in paragraph (g)(1) or (2) of this AD: Do a detailed inspection to find cracking on the outboard flanges around the fastener holes of frames 38 through 41, between stringers 12 and 21, using Airbus Service Bulletin A320-53-1032, Revision 02, dated December 5, 2001.

(1) For airplanes on which the inspection specified in Airbus Service Bulletin A320-53-1032, Revision 01, dated January 15, 1998; or Airbus Service Bulletin A320-53-1032, Revision 02, dated December 5, 2001; has been done as of February 10, 2005 (the effective date of AD 2004-25-02): Do the next inspection within 4,900 flight cycles after accomplishment of the last inspection, or within 1,100 flight cycles after February 10, 2005, whichever is later.

(2) For airplanes on which no inspection specified in Airbus Service Bulletin A320-53-1032, Revision 01, dated January 15, 1998; or Airbus Service Bulletin A320-53-1032, Revision 02, dated December 5, 2001; has been done as of February 10, 2005 (the effective date of AD 2004-25-02): Do the inspection at the earlier of the times specified in paragraphs (g)(2)(i) and (ii) of this AD.

(i) Before the accumulation of 30,000 total flight cycles.

(ii) Before the accumulation of 24,800 total flight cycles, or within 3,500 flight cycles after February 10, 2005 (the effective date of AD 2004-25-02), whichever is later.

(h) Retained Repetitive Inspections if No Cracking is Found, With No Changes

This paragraph restates the requirements of paragraph (g) of AD 2004-25-02, with no changes. If no crack is found during the inspection required by paragraph (g)(1) or (2) of this AD: Repeat the inspection thereafter at intervals not to exceed 4,900 flight cycles.

(i) Retained Corrective Actions With New Repetitive Inspections and Compliance Language

This paragraph restates the requirements of paragraph (h) of AD 2004-25-02, with new repetitive inspections and compliance language. If any crack is found during any inspection required by paragraph (g) of this AD, before further flight, repair using Airbus Service Bulletin A320-53-1032, Revision 01, dated January 15, 1998; or Airbus Service Bulletin A320-53-1032, Revision 02, dated December 5, 2001. Accomplishment of a repair using the service bulletin before the effective date of this AD ends the repetitive inspection requirements for the area repaired. As of the effective date of this AD, the repair does not constitute terminating action for the repetitive inspection. Thereafter, repeat the inspection at intervals not to exceed 4,900 flight cycles. If any crack is found during any inspection required by this AD, and the service bulletin specifies to contact Airbus for appropriate action: Before further flight, repair using a method approved by the Manager, Large Aircraft Section, International Validation Branch, FAA; or EASA; or Airbus SAS's EASA Design Organization Approval (DOA).

(j) Retained Optional Terminating Action With Changes to the Service Information Compliance Language

This paragraph restates the optional terminating action specified in paragraphs (i) and (j) of AD 2004-25-02, with changes to the service information compliance language. Accomplishment of Airbus Modification 21346 using Airbus Service Bulletin A320-53-1031, Revision 02, dated December 5, 2001, constitutes terminating action for the repetitive inspection requirements of paragraphs (h) and (i) this AD.

(k) New Requirements

Except as specified in paragraph (l) of this AD: Comply with all required actions and compliance times specified in, and in accordance with, EASA AD 2020-0040R1.

(l) Exceptions to EASA AD 2020-0040R1

(1) Where EASA AD 2020-0040R1 refers to its effective date, this AD requires using the effective date of this AD.

(2) Where EASA AD 2020-0040R1 refers to “13 March 2020 [the effective date of the original issue of this AD],” this AD requires using the effective date of this AD.

(3) Where EASA AD 2020-0040R1 requires the accomplishment of repetitive inspections and corrective actions as specified in paragraphs (1) and (2) of the EASA AD, those actions are not required by this AD as specified in the EASA AD. Those actions are required by paragraphs (g), (h), and (i) of this AD.

(4) The “Remarks” section of EASA AD 2020-0040R1 does not apply to this AD.

(m) Credit for Previous Actions

This paragraph provides credit for the optional terminating action specified in paragraph (j) of this AD, if Airbus Modification 21346 was performed before the effective date of this AD using Airbus Service Bulletin A320-53-1031, dated December 9, 1994.

(n) Other FAA AD Provisions

The following provisions also apply to this AD:

(1) Alternative Methods of Compliance (AMOCs): The Manager, Large Aircraft Section, International Validation Branch, FAA, has the authority to approve AMOCs for this AD, if requested using the procedures found in 14 CFR 39.19. In accordance with 14 CFR 39.19, send your request to your principal inspector or local Flight Standards District Office, as appropriate. If sending information directly to the Large Aircraft Section, International Validation Branch, send it to the attention of the person identified in paragraph (o)(1) of this AD. Information may be emailed to: 9-AVS-AIR-730-AMOC@faa.gov. Before using any approved AMOC, notify your appropriate principal inspector, or lacking a principal inspector, the manager of the local flight standards district office/certificate holding district office.

(2) Contacting the Manufacturer: For any requirement in this AD to obtain instructions from a manufacturer, the instructions must be accomplished using a method approved by the Manager, Large Aircraft Section, International Validation Branch, FAA; or EASA; or Airbus SAS's EASA DOA. If approved by the DOA, the approval must include the DOA-authorized signature.

(3) Required for Compliance (RC): For any service information referenced in EASA AD 2020-0040R1 that contains RC procedures and tests: Except as required by paragraph (n)(2) of this AD, RC procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(o) Related Information

(1) Sanjay Ralhan, Aerospace Engineer, Large Aircraft Section, International Validation Branch, FAA, 2200 South 216th St., Des Moines, WA 98198; telephone and fax 206-231-3223; email Sanjay.Ralhan@faa.gov.

(2) Service information identified in this AD that is not incorporated by reference is available at the addresses specified in paragraphs (p)(6) and (7) of this AD.

(p) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on December 14, 2020.

(i) European Union Aviation Safety Agency (EASA) AD 2020-0040R1, dated June 16, 2020.

(ii) Airbus Service Bulletin A320-53-1031, Revision 02, dated December 5, 2001.

(4) The following service information was approved for IBR on February 10, 2005 (70 FR 1184, January 6, 2005).

(i) Airbus Service Bulletin A320-53-1032, Revision 02, dated December 5, 2001.

(ii) [Reserved]

(5) The following service information was also approved for IBR on February 12, 1999 (64 FR 1114, January 8, 1999).

(i) Airbus Service Bulletin A320-53-1032, Revision 01, dated January 15, 1998.

(ii) [Reserved]

(6) For EASA AD 2020-0040R1, contact the EASA, Konrad-Adenauer-Ufer 3, 50668 Cologne, Germany; telephone +49 221 8999 000; email ADs@easa.europa.eu; internet www.easa.europa.eu. You may find this EASA AD on the EASA website at https://ad.easa.europa.eu. For Airbus material, contact Airbus SAS, Airworthiness Office—EIAS, Rond-Point Emile Dewoitine No: 2, 31700 Blagnac Cedex, France; telephone +33 5 61 93 36 96; fax +33 5 61 93 44 51; email account.airworth-eas@airbus.com; internet https://www.airbus.com.

(7) You may view this material at the FAA, Airworthiness Products Section, Operational Safety Branch, 2200 South 216th St., Des Moines, WA. For information on the availability of this material at the FAA, call 206-231-3195. This material may be found in the AD docket on the internet at https://www.regulations.gov by searching for and locating Docket No. FAA-2020-0451.

(8) You may view this material that is incorporated by reference at the National Archives and Records Administration (NARA). For information on the availability of this material at NARA, email fedreg.legal@nara.gov, or go to: https://www.archives.gov/federal-register/cfr/ibr-locations.html.

Issued on October 15, 2020.
Lance T. Gant,
Director, Compliance & Airworthiness Division, Aircraft Certification Service.

[FR Doc. 2020-24642 Filed 11-6-20; 8:45 am]

BILLING CODE 4910-13-P